DEPARTMENT OF THE INTERIOR

National Park Service

[NPS-WASO-VRP-OPH-NPS0032219; OMB Control Number 1024-0289; PPWOVPADH0, PPMPRHS1Y.Y00000]

Agency Information Collection Activities; NPS Case and Outbreak Investigation Data Collections

AGENCY: National Park Service, Interior.

ACTION: Notice of information collection; request for comment.

SUMMARY: In accordance with the Paperwork Reduction Act of 1995, we, the National Park Service (NPS, we) are proposing to renew an information collection without change.

DATES: Interested persons are invited to submit comments, which NPS must receive on or before November 10, 2025.

ADDRESSES: Written comments and suggestions on the information collection requirements should be submitted by the date specified above in DATES to https://www.reginfo.gov/public/do/PRAMain. Find this particular information collection by selecting “Currently under Review—Open for Public Comments” or by using the search function. Please provide a copy of your comments to the NPS Information Collection Clearance Officer (ADIR-ICCO), 13461 Sunrise Valley Drive, (MS-263) Reston, VA 20191 (mail); or phadrea_ponds@nps.gov (email). Please reference Office of Management and Budget (OMB) Control Number “1024-0289 (EPI)” in the subject line of your comments.

FOR FURTHER INFORMATION CONTACT: Dr. Amelia Johnson by email at amelia_johnson@nps.gov or by telephone at 202-236-6475; or Jennifer Proctor by email at jennifer_proctor@nps.gov, or by telephone at 202-513-7237. Individuals in the United States who are deaf, deafblind, hard of hearing, or have a speech disability may dial 711 (TTY, TDD, or TeleBraille) to access telecommunications relay services. Individuals outside the United States should use the relay services offered within their country to make international calls to the point of contact in the United States. You may also view the information collect request (ICR) at https://www.reginfo.gov/public/do/PRAMain.

SUPPLEMENTARY INFORMATION: In accordance with the Paperwork Reduction Act of 1995, (PRA, 44 U.S.C. 3501 et seq.) and 5 CFR 1320.8(d)(1), all information collections require approval under the PRA. We may not conduct or sponsor, and you are not required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format. We are especially interested in public comments addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the NPS minimize the burden of the collection on the respondents, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Authorized by the NPS Organic Act, 54 U.S.C. 100101 et seq., and Public Health Service Act, 42 U.S. Code chapter 6A, the NPS Office of Public Health (OPH) is called upon by NPS leadership and others to conduct disease surveillance, respond to urgent outbreaks, and prevent illnesses within or associated with national parks. In some areas of the National Park System, State and local health departments may not have jurisdiction; even where State and local health departments do have jurisdiction, they may rely on the NPS for public health response on public lands.

This collection will allow the NPS OPH to conduct epidemiological investigations in response to public health events of concern, including:

• Incidents where three or more visitors, employees, or volunteers have similar symptoms or illnesses.

• Single reports of rare or reportable diseases.

• Incidents that result in death, cause serious injury or illness, and/or lead to overnight hospitalization.

• Wildlife encounters of concern such as bites, scratches, or attacks and wildlife deaths that do not fit known patterns.

• Any additional illnesses of public health concern.

The information collected will be used to determine the agents, sources, modes of transmission, or risk factors so that effective prevention and control measures can be implemented.

Title of Collection: NPS Case and Outbreak Investigation Data Collections.

OMB Control Number: 1024-0289.

Form Number: 10-867.

Type of Review: Extension of a currently approved collection.

Respondents/Affected Public: Individuals/households, businesses, and governments.

Total Estimated Number of Annual Respondents: 500.

Total Estimated Number of Annual Responses: 500.

Estimated Completion Time per Response: Average 18 minutes.

Total Estimated Number of Annual Burden Hours: 150 hours.

Respondent's Obligation: Voluntary.

Frequency of Collection: On occasion.

Total Estimated Annual Non hour Burden Cost: None.

The authority for this action is the Paperwork Reduction Act of 1995 (44 U.S.C. 3501 et seq.).

Phadrea Ponds,
National Park Service Information Collections Clearance Officer.

[FR Doc. 2025-17482 Filed 9-10-25; 8:45 am]

BILLING CODE 4312-52-P